DEPARTMENT OF HEALTH AND HUMAN SERVICES

National Institutes of Health

Center for Scientific Review Amended; Notice of Meeting

Notice is hereby given of a change in the meeting of the Center for Scientific Review Special Emphasis Panel; Small Business: Biomedical Sensing, Measurement and Instrumentation Study Section, March 10-11, 2022, 9:30 a.m. to 7:00 p.m., which was published in the Federal Register on February 08, 2022, 87 FR 7194, FR DOC #2022-02598.

This meeting is being amended to change the Contact Person from Yuanna Cheng to James J. Li, Ph.D., Scientific Review Officer, Center for Scientific Review, National Institutes of Health, 6701 Rockledge Drive, Room 5148, MSC 7849, Bethesda, MD. The meeting dates, times, and meeting location remain the same. The meeting is closed to the public.

Dated: February 8, 2022.
David W. Freeman,
Program Analyst, Office of Federal Advisory Committee Policy.

[FR Doc. 2022-03054 Filed 2-11-22; 8:45 am]

BILLING CODE 4140-01-P